DEPARTMENT OF COMMERCE

Census Bureau

2002 Economic Census Covering the Information; Professional, Scientific, and Technical Services; Management of Companies and Enterprises; Administrative and Support and Waste Management and Remediation Services; Educational Services; Health Care and Social Assistance; Arts, Entertainment, and Recreation; and Other Services (Except Public Administration) Sectors

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 9, 2001.

ADDRESSES: Direct all written comments to Madeleine Clayton, Departmental Forms Clearance Officer, Department of Commerce, Room 6086, 14th and Constitution Avenue, NW., Washington, DC 20230 (or via the Internet at mclayton@doc.gov).

FOR FURTHER INFORMATION CONTACT: Requests for additional information or copies of the information collection instrument(s) and instructions should be directed to Jack Moody, U.S. Census Bureau, Room 2784, Building 3, Washington, DC 20233-0001 on (301) 457-2689 or via the Internet at jmoody@census.gov.

SUPPLEMENTARY INFORMATION

I. Abstract

The economic census, conducted under the authority of Title 13, United States Code (U.S.C.), is the primary source of facts about the structure and functioning of the Nation's economy. Economic statistics serve as part of the framework for the national accounts and provide essential information for government, business, and the general public. Economic data are the Census Bureau's primary program commitment during nondecennial census years. The 2002 Economic Census covering the Information; Professional, Scientific, and Technical Services; Management of Companies and Enterprises; Administrative and Support and Waste Management and Remediation Services; Educational Services; Health Care and Social Assistance; Arts, Entertainment, and Recreation; and Other Services (Except Public Administration) sectors (as defined by the North American Industry Classification System (NAICS)) will measure the economic activity of 2.5 million establishments. The information collected will produce basic statistics by kind of business on the number of establishments, receipts/revenue, expenses, payroll, and employment. It will also yield a variety of subject statistics, including receipts/revenue by receipts/revenue line, receipts/revenue by class of customer, and other industry-specific measures. Primary strategies for reducing burden in Census Bureau economic data collections are to increase electronic reporting through broader use of computerized self-administered census questionnaires, on-line questionnaires, and other electronic data collection methods.

II. Method of Collection

A. Mail Selection Procedures

Establishments for the mail canvass will be selected from the Census Bureau's Business Register. To be eligible for selection, an establishment will be required to satisfy the following conditions: (i) It must be classified in the information; professional, scientific, and technical services; management of companies and enterprises; administrative and support and waste management and remediation services; educational services; health care and social assistance; arts, entertainment, and recreation; or other services (except public administration) sector; (ii) it must be an active operating establishment of a multi-establishment firm (i.e. a firm that operates at more than one physical locations), or it must be a single-establishment firm (i.e. a firm that operates at only one physical location) with payroll; and (iii) it must be located in one of the 50 states or the District of Columbia. Mail selection procedures will distinguish the following groups of establishments:

1. Establishments of Multi-Establishment Firms

Selection procedures will assign all active operating establishments of multi-establishment firms to the mail component of the potential respondent universe. We estimate that the 2002 Economic Census mail canvasses will include approximately 429,000 establishments of multi-establishment firms.

2. Single-Establishment Firms With Payroll

As an initial step in the selection process, we will conduct a study of the potential respondent universe. This study will produce a set of industry-specific payroll cutoffs that we will use to distinguish large versus small single-establishment firms within each kind of business. This payroll size distinction will affect selection as follows:

(a) Large Single-Establishment Firms. Selection procedures will assign single-establishment firms having annualized payroll (from Federal administrative records) that equals or exceeds the cutoff for their industry to the mail component of the potential respondent universe. We estimate that the 2002 Economic Census mail canvasses will include approximately 706,000 large single-establishment firms.

(b) Small Single-Establishment Firms. Selection procedures also will assign a sample of single-establishment firms having annualized payroll below the cutoff for their industry to the mail component of the potential respondent universe. Sampling strata and corresponding probabilities of selection will be determined by a study of the potential respondent universe conducted shortly before mail selection operations begin. We estimate that the 2002 Economic Census mail canvasses will include approximately 72,000 small single-establishment firms selected in this sample.

All remaining single-establishment firms with payroll will be represented in the census by data from Federal administrative records. Generally, we will not include these small employers in the census mail canvass. However, administrative records sometimes have fundamental deficiencies that make them unsuitable for use in producing detailed industry statistics by geographic area. When we find such a deficiency, we will mail the firm a census classification form to collect basic information needed to resolve the problem. We estimate that the 2002 Economic Census mail canvasses for sectors covered under this submission will include approximately 490,000 small single-establishment firms that receive these classification forms.

III. Data

OMB Number: Not available.

Form Number: The 66 standard and 18 classification forms used to collect information from businesses in these sectors of the economic census are tailored to specific business practices and are too numerous to list separately in the notice. You can obtain information on the proposed content of the forms by calling the Service Census Branch on (301) 457-2689 or via the Internet at scb@census.gov.

Type of Review: Regular review.

Affected Public: State or local governments, businesses or other for profit, non-profit institutions, and small businesses or organizations.

Estimated Number of Respondents

Information: Standard Form—91,458, Classification Form—none

Professional, Scientific, and Technical Services: Standard Form—241,800, Classification Form—123,466

Management of Companies and Enterprises: Standard Form—52,645, Classification Form—none

Administrative and Support and Waste Management and Remediation Services: Standard Form—145,202, Classification Form—123,220

Educational Services: Standard Form—12,193, Classification Form—13,938

Health Care and Social Assistance: Standard Form—345,717, Classification Form—91,202

Arts, Entertainment, and Recreation: Standard Form—54,517, Classification Form—19,703

Other Services (Except Public Administration): Standard Form—263,085, Classification Form—118,141

Total: 1,696,287

Estimated Time Per Response

Information: Standard Form—1.2 hours, Classification Form—none

Professional, Scientific, and Technical Services: Standard Form—1.6 hours, Classification Form—.1 hours

Management of Companies and Enterprises: Standard Form—.8 hours, Classification Form—none

Administrative and Support and Waste Management and Remediation Services: Standard Form—1.2 hours, Classification Form—.1 hours

Educational Services: Standard Form—.9 hours, Classification Form—.1 hours

Health Care and Social Assistance: Standard Form—1.1 hours, Classification Form—.1 hours

Arts, Entertainment, and Recreation: Standard Form—1.2 hours, Classification Form—.1 hours

Other Services (Except Public Administration): Standard Form—1.0 hours, Classification Form—.1 hours

Estimated Total Annual Burden Hours

Information: Standard Form—109,750, Classification Form—none

Professional, Scientific, and Technical Services: Standard Form—386,880, Classification Form—12,347

Management of Companies and Enterprises: Standard Form—42,166, Classification Form—none

Administrative and Support and Waste Management and Remediation Services: Standard Form—174,242, Classification Form—12,322

Educational Services: Standard Form—10,974, Classification Form—1,394

Health Care and Social Assistance: Standard Form—380,289, Classification Form—9,120

Arts, Entertainment, and Recreation: Standard Form—65,420, Classification Form—1,970

Other Services (Except Public Administration): Standard Form—263,085, Classification Form—11,814

Total: 1,481,773

Estimated Total Annual Cost

Information: Standard Form—$1,681,370, Classification Form—none

Professional, Scientific, and Technical Services: Standard Form—$5,927,002, Classification Form—$189,156

Management of Companies and Enterprises: Standard Form—$645,983, Classification Form—none

Administrative and Support and Waste Management and Remediation Services: Standard Form—$2,669,387, Classification Form—$188,773

Educational Services: Standard Form—$168,122, Classification Form—$21,356

Health Care and Social Assistance: Standard Form—$5,826,027, Classification Form—$139,718

Arts, Entertainment, and Recreation: Standard Form—$1,002,234, Classification Form—$30,180

Other Services (Except Public Administration): Standard Form—$4,030,462, Classification Form—$180,990

Total: $22,700,760

Respondent's Obligation: Mandatory.

Legal Authority: Title 13, U.S.C., Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2001.
Madeleine Clayton,
Departmental Forms Clearance Officer, Office of the Chief Information Officer.

[FR Doc. 01-3170 Filed 2-6-01; 8:45 am]

BILLING CODE 3510-07-P